DEPARTMENT OF ENERGY

Federal Energy Regulatory Commission

[Docket No. RP00-632-002]

Dominion Transmission, Inc,; Notice of Compliance Filing

March 21, 2001.

Take notice that on March 16, 2001, Dominion Transmission Inc. (DTI) tendered for filing as part of its FERC Gas Tariff, Third Revised Volume No. 1, the following revised tariff sheets, with an effective date of April 1, 2001:

Fifth Revised Sheet No. 31

Fifth Revised Sheet No. 32

Fourth Revised Sheet No. 33

Fourth Revised Sheet No. 35

DTI states that the tariff sheets are filed to comply with Commission's October 31, 2000 Order which accepted for filing DTI's revised rates implementing DTI's annual TCRA mechanism, and suspended their effectiveness on the earlier of April 1, 2001 or a date set by subsequent Commission order, subject to refund and to the outcome of the technical conference. To afford additional time for settlement discussions, DTI proposes to defer moving the rates into effect at this time. DTI anticipates that it will not file to move the revised rates into effect if a settlement in principle is reached prior to the April 1, 2001. DTI reserves its right to file a motion at least one day prior to April 1, 2001 to place the rates into effect.

DTI states that copies of its letter of transmittal and enclosures have been served upon DTI's customers and interested state commissions.

Any person desiring to be heard or to protest said filing should file a motion to intervene or a protest with the Federal Energy Regulatory Commission, 888 First Street, NE., Washington, DC 20426, in accordance with sections 385.214 or 385.211 of the Commission with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-7463 Filed 3-26-01; 8:45 am]

BILLING CODE 6717-01-M